DEPARTMENT OF DEFENSE

Department of the Navy

Notice of 30-Day Public Review Period and Availability of Final Environmental Assessment and Draft Finding of No Significant Impact: Former Naval Air Station Alameda, Alameda, California

AGENCY: Department of the Navy, DoD.

ACTION: Notice.

SUMMARY: This notice provides information on the 30-day public review period and availability of a Final Environmental Assessment (EA) and Draft Finding of No Significant Impact (FONSI) for the Department of Navy's (DoN) transfer of excess property at Naval Air Station (NAS) Alameda, Alameda, California.

FOR FURTHER INFORMATION CONTACT: Ms. Kimberly A. Ostrowski, Director, Naval Facilities Engineering Command, Base Realignment and Closure Program Management Office, West, 1455 Frazee Road, Suite 900, San Diego, CA 92108-4310, telephone 619-532-0993.

SUPPLEMENTARY INFORMATION: The Proposed Action is the transfer of approximately 624 acres of excess federal property at the former NAS Alameda from the DoN to the Department of Veterans Affairs (VA) via a Federal-to-Federal transfer. VA will be responsible for the subsequent construction and operation of an outpatient clinic (OPC), offices, and National Cemetery on approximately 112 acres of land (referred to as the “VA Development Area”).

Based on information gathered during preparation of the Final EA and based upon the findings in the Final EA, DoN finds that implementation of the Proposed Action, with the VA's implementation and monitoring of the mitigation measures identified in the FONSI, would not have a significant impact on the human environment and an Environmental Impact Statement is not required for the transfer of excess property and VA's development of an OPC, offices, cemetery, and associated infrastructure at the former NAS Alameda.

The FONSI is available for public review for 30 days before becoming final at which time the proposed action may be implemented. The FONSI public review period ends 30 days after issuance of the Notice of Availability.

Dated: November 8, 2013.
N.A. Hagerty-Ford,
Commander, Office of the Judge Advocate General, U.S. Navy, Federal Register Liaison Officer.

[FR Doc. 2013-27428 Filed 11-15-13; 8:45 am]

BILLING CODE 3810-FF-P